DEPARTMENT OF HOMELAND SECURITY

Coast Guard

33 CFR Part 117

[Docket No. USCG-2020-0034]

Drawbridge Operation Regulation; Chicago River, Chicago, IL

AGENCY: Coast Guard, DHS.

ACTION: Notice of temporary deviation from regulations; request for comments.

SUMMARY: The Coast Guard authorizes the Amtrak Railroad Bridge, mile 3.77, across the South Branch of the Chicago River, to be operated remotely and establish an intermediate opening position. The request was made by the bridge owner. This test deviation will test if the intermediate position improves vessel flow through the river. The bridge will continue to open on signal for commercial and recreational vessels.

DATES:

Effective date: This deviation is effective from midnight on June 1, 2020 to midnight on September 1, 2020.

Comment date: Comments and relate material must reach the Coast Guard on or before September 2, 2020.

ADDRESSES: You may submit comments identified by docket number USCG-2020-0034 using Federal eRulemaking Portal at https://www.regulations.gov.

See the “Public Participation and Request for Comments” portion of the SUPPLEMENTARY INFORMATION section below for instructions on submitting comments.

FOR FURTHER INFORMATION CONTACT: If you have questions on this rule, call or email Mr. Lee D. Soule, Bridge Management Specialist, Ninth Coast Guard District; telephone 216-902-6085, email Lee.D.Soule@uscg.mil.

SUPPLEMENTARY INFORMATION:

I. Background, Purpose, and Legal Basis

The Amtrak Railroad Bridge, mile 3.77, over the South Branch of the Chicago River provides a vertical clearance of 10 feet in the closed position and 65 feet in the open position based on International Great Lakes Datum of 1985 (IGLD85). The bridge opens an average of twelve times a day for vessels. An average of 150,000 rail commuters cross the bridge daily along with freight and other passenger trains. The South Branch of the Chicago River is part of a network of waterways that allows vessels to travel from Chicago, IL to New Orleans, LA. Cook County, IL, described the Chicago River as the fifth largest port in the United States, hosting commercial vessels over 300 tons, recreational power and sailing vessels, several passenger vessels, water taxies, paddle boats, and various paddle craft. With the exception of the Amtrak Bridge, vessels can pass under all the bridges in the Chicago metropolitan area without an opening.

In accordance with general bridge regulations found in 33 CFR 117.5, a drawbridge must open promptly and fully when signaled to open. Not every vessel needs the Amtrak Bridge to open to the full 65 feet and we believe the test deviation will show the Amtrak Bridge can open half way and allow most vessels to pass. Vessels that need a full opening can request it without advance notice. We believe that opening to an intermediary position will increase the bridge availability by 50% to both rail and vessels. It was recently discovered the remote operations of the Amtrak Bridge has not been included in the current regulation; but has been operating without concerns from the maritime community. The drawbridge currently operates under title 33 of the Code of Federal Regulation (CFR), § 117.391.

The test deviation is necessary to allow the public to observe the bridge in operation and allow the permanent and seasonal residents of the area the opportunity to comment on the operation of the bridge in the intermediate position. The test schedule will run from midnight on June 1, 2020 to midnight on September 1, 2020.

The bridge owner will continue to maintain a drawtender's log and provide those logs at the end of the test deviation. Vessels able to safely pass under the bridge without an opening may do so at any time and vessels may request a full opening without advance notice.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comments can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

All public comments will be in our online docket at http://www.regulations.gov, and can be viewed by following that website's instructions. Additionally, if you go to the online docket and sign up for email alerts, you will be notified when comments are posted or a final rule is published.

D.L. Cottrell,
Rear Admiral, U.S. Coast Guard, Commander, Ninth Coast Guard District.

[FR Doc. 2020-06823 Filed 4-7-20; 8:45 am]

BILLING CODE 9110-04-P